FARM CREDIT SYSTEM INSURANCE CORPORATION

Sunshine Act Meeting

AGENCY: Farm Credit System Insurance Corporation Board.

ACTION: Regular meeting.

SUMMARY: Notice is hereby given of the regular meeting of the Farm Credit System Insurance Corporation Board (Board).

DATE AND TIME: The meeting of the Board will be held at the offices of the Farm Credit Administration in McLean, Virginia, on June 10, 2004, from 10 a.m. until such time as the Board concludes its business.

FOR FURTHER INFORMATION CONTACT: Jeanette C. Brinkley, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• March 26, 2004 (Regular Meeting)

B. Business Reports

• Financials

• Evaluation of Options for Meeting Accounting/Financial Report Requirements

• Report on Insured Obligations

• Quarterly Report on Annual Performance Plan

C. New Business

• Proposed Rule on Golden Parachute and Indemnification Payments

Closed Session

• Report on System Performance

Dated: May 26, 2004.
Jeanette C. Brinkley,
Secretary, Farm Credit System Insurance Corporation Board.

[FR Doc. 04-12265 Filed 5-26-04; 12:09 pm]

BILLING CODE 6710-01-P